DEPARTMENT OF THE INTERIOR

Bureau of Land Management

DEPARTMENT OF AGRICULTURE

Forest Service

[NV-912-07-1220PA-006F]

Notice of Public Meeting: Recreation Subcommittee Meeting of the BLM Nevada Sierra Front-Northwestern Great Basin, Northeastern Great Basin and Mojave-Southern Great Basin Resource Advisory Councils (RACs)

AGENCIES: Bureau of Land Management, Interior and Forest Service, Agriculture.

ACTION: BLM Nevada RACs Recreation Subcommittee meeting (hereinafter referred to as “Recreation Subcommittee.”)

SUMMARY: In accordance with the Federal Lands Recreation Enhancement Act of 2004 (FLREA), the Recreation Subcommittee will hold a meeting to establish guidelines for the newly formed Recreation Subcommittee, to discuss a proposal for establishing a fee at Bob Scott campground managed by the Forest Service and to discuss a proposal to raise fees at BLM campgrounds managed by the BLM Nevada Elko Field Office.

Date and Time: The Recreation Subcommittee will meet on Thursday, March 29, 2007, from 9 a.m. to 4:30 p.m. at the Bureau of Land Management, Nevada State Office. All meetings are open to the public. A general public comment period, where the public may submit oral or written comments to the Recreation Subcommittee will begin at approximately 11 a.m. unless otherwise listed in the final meeting agenda.

A final detailed agenda, with any additions/corrections to agenda topics, location, field trips and meeting times, will be sent to local and regional media sources at least 14 days before each meeting, and hard copies can also be mailed or sent via FAX. Individuals who need special assistance such as sign language interpretation or other reasonable accommodations, or who wish a hard copy of each agenda, should contact Barbara Keleher no later than 10 days prior to each meeting.

ADDRESSES: 1340 Financial Blvd., Reno, Nevada, Phone: (775) 861-6400.

FOR FURTHER INFORMATION CONTACT: Doran Sanchez, Chief, Office of Communications, telephone (775) 861-6586, or Barbara Keleher, Outdoor Recreation Planner, telephone (775) 861-6628, at the BLM Nevada State Office, 1340 Financial Blvd., Reno, Nevada.

SUPPLEMENTARY INFORMATION: The Federal Lands Recreation Enhancement Act (REA; Pub. L. 108-447), enacted on December 8, 2004, directs the Secretaries of the Interior or Agriculture, or both, to establish Recreation Resource Advisory Committees to provide advice and recommendations on recreation fees and fee areas in each State or region for Federal recreational lands and waters managed by the Bureau of Land Management or Forest Service. The law allows the agencies to use existing RACs or to establish new Recreation RACs. For the state of Nevada, a recreation subcommittee, of the three existing RACs, has been designated to perform Recreation Resource Advisory Committees responsibilities pertaining to both BLM and Forest Service managed Federal lands and waters per the national interagency agreement between the Forest Service and BLM. This subcommittee will recommend new amenity fees and fee change proposals to the respective RAC(s) for that geographic region.

Dated: February 26, 2007.
Ron Wenker,
Bureau of Land Management, Nevada State Director.

Dated: February 26, 2007.
Ed Monnig,
Forest Service, Supervisor, Humboldt-Toiyabe National Forest.

[FR Doc. 07-945 Filed 3-1-07; 8:45 am]

BILLING CODE 4310-HC-P